DEPARTMENT OF TRANSPORTATION

Maritime Administration

[Docket No. MARAD-2011-0038]

Requested Administrative Waiver of the Coastwise Trade Laws

AGENCY: Maritime Administration, Department of Transportation.

ACTION: Invitation for public comments on a requested administrative waiver of the Coastwise Trade Laws for the vessel FIREFLY.

SUMMARY: As authorized by 46 U.S.C. 12121, the Secretary of Transportation, as represented by the Maritime Administration (MARAD), is authorized to grant waivers of the U.S.-build requirement of the coastwise laws under certain circumstances. A request for such a waiver has been received by MARAD. The vessel, and a brief description of the proposed service, is listed below. The complete application is given in DOT docket MARAD-2011-0038 at http://www.regulations.gov. Interested parties may comment on the effect this action may have on U.S. vessel builders or businesses in the U.S. that use U.S.-flag vessels. If MARAD determines, in accordance with 46 U.S.C. 12121 and MARAD's regulations at 46 CFR Part 388 (68 FR 23084, April 30, 2003), that the issuance of the waiver will have an unduly adverse effect on a U.S.-vessel builder or a business that uses U.S.-flag vessels in that business, a waiver will not be granted. Comments should refer to the docket number of this notice and the vessel name in order for MARAD to properly consider the comments. Comments should also state the commenter's interest in the waiver application, and address the waiver criteria given in § 388.4 of MARAD's regulations at 46 CFR part 388.

DATES: Submit comments on or before June 1, 2011.

ADDRESSES: Comments should refer to docket number MARAD-2011-0038. Written comments may be submitted by hand or by mail to the Docket Clerk, U.S. Department of Transportation, Docket Operations, M-30, West Building Ground Floor, Room W12-140, 1200 New Jersey Avenue, SE., Washington, DC 20590. You may also send comments electronically via the Internet at http://www.regulations.gov. All comments will become part of this docket and will be available for inspection and copying at the above address between 10 a.m. and 5 p.m., E.T., Monday through Friday, except federal holidays. An electronic version of this document and all documents entered into this docket is available on the World Wide Web at http://www.regulations.gov.

FOR FURTHER INFORMATION CONTACT: Joann Spittle, U.S. Department of Transportation, Maritime Administration, 1200 New Jersey Avenue, SE., Room W21-203, Washington, DC 20590. Telephone 202-366-5979, e-mail Joann.Spittle@dot.gov.

SUPPLEMENTARY INFORMATION: As described by the applicant the intended service of the vessel FIREFLY is: Intended Commercial Use of Vessel: “We see an opportunity to do occasional charters to help defray the cost of operating the yacht. The primary use, however, will remain recreational. The potential for charter will depend on interest in market that has yet to be tested and the ability to obtain clientele willing to pay for the premium offering that the yacht represents. For charter cruises in and about the yacht's home port of Washington, DC, we would expect to have 6-8 passengers. Most trips would be a simple river cruise on the Potomac or Anacostia Rivers but there may be some overnight cruises, possibly up to one week in duration. For a day cruise we would have a maximum of 12 passengers, for overnight we would accommodate a maximum of 6 guests. Charters would be arranged on an ad hoc basis depending on the level of interest and schedule. There is the possibility of dropping passengers off at the Nationals baseball park which elevates our interest in trying something no one appears to be doing.”

Geographic Region: “District of Columbia, Virginia, Maryland, Florida.”

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

By Order of the Maritime Administrator.
Dated: April 19, 2011.
Christine Gurland.
Secretary, Maritime Administration.

[FR Doc. 2011-10597 Filed 4-29-11; 8:45 am]

BILLING CODE 4910-81-P